INTERNATIONAL TRADE COMMISSION

[Investigation No. 337-TA-1416]

Certain Hydrodermabrasion Systems and Components Thereof II; Correction; Notice of Institution of Investigation; Correction

AGENCY: International Trade Commission.

ACTION: Notice; correction.

SUMMARY: Correction is made to the investigation caption.

SUPPLEMENTARY INFORMATION:

Correction

In the Federal Register of September 10, 2024 (89 FR 73446-47) in FR Doc. 2024-20417, on page 73446, in the second column, the investigation caption should read: [Certain Hydrodermabrasion Systems and Components Thereof II].

Issued: September 10, 2024.
Lisa Barton,
Secretary to the Commission.

[FR Doc. 2024-20928 Filed 9-13-24; 8:45 am]

BILLING CODE 7020-02-P